COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action deletes product(s) and service(s) from the Procurement List that were furnished by nonprofit agencies employing persons who are blind or have other severe disabilities.

DATES: Date added to and deleted from the Procurement List: January 19, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Deletions

On November 15, 2024 (89 FR 90270), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 8415-01-584-1635—Trousers, Intermediate Weather Outer Layer (IWOL) Layer 6 FREE, Army, OEFCP, XSS

8415-01-584-1637—Trousers, Intermediate Weather Outer Layer (IWOL) Layer 6 FREE, Army, OEFCP, XSR8415-01-584-1639—Trousers, Intermediate Weather Outer Layer (IWOL) Layer 6 FREE, Army, OEFCP, XSL

8415-01-584-1640—Trousers, Intermediate Weather Outer Layer (IWOL) Layer 6 FREE, Army, OEFCP, SS

8415-01-584-1641—Trousers, Intermediate Weather Outer Layer (IWOL) Layer 6 FREE, Army, OEFCP, SR

8415-01-584-1642—Trousers, Intermediate Weather Outer Layer (IWOL) Layer 6 FREE, Army, OEFCP, SL

8415-01-584-1643—Trousers, Intermediate Weather Outer Layer (IWOL) Layer 6 FREE, Army, OEFCP, MS

8415-01-584-1644—Trousers, Intermediate Weather Outer Layer (IWOL) Layer 6 FREE, Army, OEFCP, MR

8415-01-584-1645—Trousers, Intermediate Weather Outer Layer (IWOL) Layer 6 FREE, Army, OEFCP, ML

8415-01-584-1648—Trousers, Intermediate Weather Outer Layer (IWOL) Layer 6 FREE, Army, OEFCP, LS

8415-01-584-1649—Trousers, Intermediate Weather Outer Layer (IWOL) Layer 6 FREE, Army, OEFCP, LR

8415-01-584-1654—Trousers, Intermediate Weather Outer Layer (IWOL) Layer 6 FREE, Army, OEFCP, LL

8415-01-584-1655—Trousers, Intermediate Weather Outer Layer (IWOL) Layer 6 FREE, Army, OEFCP, XLS

8415-01-584-1656—Trousers, Intermediate Weather Outer Layer (IWOL) Layer 6 FREE, Army, OEFCP, XLR

8415-01-584-1663—Trousers, Intermediate Weather Outer Layer (IWOL) Layer 6 FREE, Army, OEFCP, XLL

8415-01-584-1665—Trousers, Intermediate Weather Outer Layer (IWOL) Layer 6 FREE, Army, OEFCP, XXLS

8415-01-584-1672—Trousers, Intermediate Weather Outer Layer (IWOL) Layer 6 FREE, Army, OEFCP, XXLR

8415-01-584-1674—Trousers, Intermediate Weather Outer Layer (IWOL) Layer 6 FREE, Army, OEFCP, XXLL

Authorized Source of Supply: San Antonio Lighthouse for the Blind, San Antonio, TX

Contracting Activity: W6QK ACC-APG NATICK, NATICK, MA.

NSN(s)—Product Name(s): 8415-01-583-9445—Jacket, Intermediate Weather Outer Layer (IWOL) Layer 6 FREE, Army, OEFCP, ML

8415-01-583-9447—Jacket, Intermediate Weather Outer Layer (IWOL) Layer 6 FREE, Army, OEFCP, LS

8415-01-583-9449—Jacket, Intermediate Weather Outer Layer (IWOL) Layer 6 FREE, Army, OEFCP, LR

8415-01-583-9450—Jacket, Intermediate Weather Outer Layer (IWOL) Layer 6 FREE, Army, OEFCP, LL

8415-01-583-9451—Jacket, Intermediate Weather Outer Layer (IWOL) Layer 6 FREE, Army, OEFCP, XLS

8415-01-583-9453—Jacket, Intermediate Weather Outer Layer (IWOL) Layer 6 FREE, Army, OEFCP, XLR

8415-01-583-9454—Jacket, Intermediate Weather Outer Layer (IWOL) Layer 6 FREE, Army, OEFCP, XLL

8415-01-583-9455—Jacket, Intermediate Weather Outer Layer (IWOL) Layer 6 FREE, Army, OEFCP, XXLS

8415-01-583-9456—Jacket, Intermediate Weather Outer Layer (IWOL) Layer 6 FREE, Army, OEFCP, XXLR

8415-01-583-9458—Jacket, Intermediate Weather Outer Layer (IWOL) Layer 6 FREE, Army, OEFCP, XXLL

8415-01-583-9470—Jacket, Intermediate Weather Outer Layer (IWOL) Layer 6 FREE, Army, OEFCP, XSS

8415-01-583-9471—Jacket, Intermediate Weather Outer Layer (IWOL) Layer 6 FREE, Army, OEFCP, XSR

8415-01-583-9474—Jacket, Intermediate Weather Outer Layer (IWOL) Layer 6 FREE, Army, OEFCP, XSL

8415-01-583-9479—Jacket, Intermediate Weather Outer Layer (IWOL) Layer 6 FREE, Army, OEFCP, SS

8415-01-583-9480—Jacket, Intermediate Weather Outer Layer (IWOL) Layer 6 FREE, Army, OEFCP, SR

8415-01-583-9483—Jacket, Intermediate Weather Outer Layer (IWOL) Layer 6 FREE, Army, OEFCP, SL

8415-01-583-9485—Jacket, Intermediate Weather Outer Layer (IWOL) Layer 6 FREE, Army, OEFCP, MS

8415-01-583-9488—Jacket, Intermediate Weather Outer Layer (IWOL) Layer 6 FREE, Army, OEFCP, MR

Authorized Source of Supply: Winston-Salem Industries for the Blind, Inc, Winston-Salem, NC

Contracting Activity: W6QK ACC-APG NATICK, NATICK, MA.

NSN(s)—Product Name(s): 6645-01-698-6558—Clock, Wall, Quartz, “Think Safety”, 12-3/4″ Diameter, Black Frame

Authorized Source of Supply: Chicago Lighthouse Industries, Chicago, IL

Contracting Activity: GSA/FAS ADMIN SVCS ACQUISITION BR(2, NEW YORK, NY

NSN(s)—Product Name(s): 8540-01-378-6218—Tissue, Toilet, Jumbo, 1-Ply, 3.5″ x 4000′, White, 6 Rolls

Authorized Source of Supply: Outlook Nebraska, Inc, Omaha, NE

Contracting Activity: GSA/FAS ADMIN SVCS ACQUISITION BR(2, NEW YORK, NY

Service(s)

Service Type: Grounds Maintenance

Mandatory for: U.S. Army Reserve Center: 1850 Baltimore Road, Maus-Warfield, Rockville, MD

Contracting Activity: DEPT OF THE ARMY, W6QM MICC CTR-FT DIX (RC)

Service Type: Grounds Maintenance and Snow Removal

Mandatory for: US Army Corps of Engineers, Walla Walla District Headquarters, Walla Walla, WA

Designated Source of Supply: Lillie Rice Center, Inc., Walla Walla, WA

Contracting Activity: DEPT OF THE ARMY, W071 ENDIST WALLA WALLA

Ramon Barreto,
Business Management Specialist, Business Operations.

[FR Doc. 2024-30423 Filed 12-19-24; 8:45 am]

BILLING CODE 6353-01-P